DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice (NACNEP).

Dates and Times: April 19, 2007, 9 a.m.—5 p.m. April 20, 2007, 8 a.m.-5 p.m.

Place: Hotel Washington, 515 15th Street, NW., Washington, DC 20004.

Status: The meeting will be open to the public.

Agenda: Agency and Bureau administrative updates will be provided. The purpose of the meeting will be to discuss the integration of health information technology into nursing education and practice. Experts will promote the awareness of the latest simulated learning, informatics, distance learning, and telehealth trends, advances, and issues. Data will be presented on use of healthcare information systems to enhance nursing education and practice, optimize patient safety, and drive improvements in health care quality. Representatives from the Department of Health and Human Services, the National Center for Cultural Competence, and the National Nursing Centers Consortium will be presenting. During this meeting, Council workgroups will deliberate on the content presented and formulate recommendations to the Secretary of Health and Human Services and the Congress on the integration of technology into nursing education and practice. This meeting will form the basis for NACNEP's mandated Eighth Annual Report.

For Further Information Contact: Anyone interested in obtaining a roster of members, minutes of the meeting, or other relevant information should write or contact Dr. Joan Weiss, Executive Secretary, National Advisory Council on Nurse Education and Practice, Parklawn Building, Room 9-35, 5600 Fishers Lane, Rockville, Maryland 20857, telephone (301) 443-5688.

Dated: March 15. 2007.
Alexandra Huttinger,
Acting Director, Division of Policy Review and Coordination.

[FR Doc. E7-5295 Filed 3-22-07; 8:45 am]

BILLING CODE 4165-15-P